DEPARTMENT OF JUSTICE

Notice of Lodging of Consent Decree Under the Clean Water Act

Notice is hereby given that on June 11, 2012, a proposed Consent Decree in United States v. Siemens Industry, Inc., et al., Civil Action No. 1:12-cv-00729 was lodged with the United States District Court for the District of Delaware.

The complaint in this matter alleges that defendants violated Section 311 of the Clean Water Act at an oil recycling, storage and distribution facility in Wilmington, Delaware through their failure to prepare and implement an adequate Facility Response Plan, failing to provide an adequate secondary containment system, and failing to prepare and implement an adequate Spill Prevention, Control, and Countermeasure Plan.

The proposed Consent Decree requires defendants to take appropriate actions to comply with Section 311 of the CWA and implementing regulations at 40 CFR part 112, particularly to insure compliance with secondary containment requirements and Spill Prevention, Control and Countermeasure Plan requirements. Defendants will also pay a $300,000 civil penalty.

The Department of Justice will receive for a period of thirty (30) days from the date of this publication comments relating to the proposed Decree. Comments should be addressed to the Assistant Attorney General, Environment and Natural Resources Division, and either emails to emailed to pubcomment-ees.enrd@USDOJ.gov or mailed to P.O. Box 7611, U.S. Department of Justice, Washington, DC 20044-7611, and should refer to United States v. Siemens Industry, Inc., D.J. Ref. 90-5-1-1-09287.

During the public comment period, the proposed Decree may be examined on the following Department of Justice Web site: http://www.usdoj.gov/enrd/Consent_Decrees.html. A copy of the proposed Decree may also be obtained by mail from the Consent Decree Library, P.O. Box 7611, U.S. Department of Justice, Washington, DC 20044-7611, or by faxing or emailing a request to “Consent Decree Copy” (EESCDCopy.ENRD@usdoj.gov) fax no. (202) 514-0097, phone confirmation number: (202) 514-5271. If requesting a copy from the Consent Decree Library, please enclose a check in the amount of $8.25 (25 cents per page reproduction cost) payable to the U.S. Treasury or, if by email or fax, please forward a check in that amount to the Consent Decree Library at the stated address.

Robert Brook,
Assistant Section Chief, Environmental Enforcement Section, Environment and Natural Resources Division.

[FR Doc. 2012-14664 Filed 6-14-12; 8:45 am]

BILLING CODE 4410-15-P